SECURITIES AND EXCHANGE COMMISSION

Sunshine Act Meeting

Notice is hereby given, pursuant to the provisions of the Government in the Sunshine Act, Public Law 94-409, that the Securities and Exchange Commission will hold an Open Meeting on Wednesday, April 18, 2012 at 10 a.m., in the Auditorium, Room L-002.

The subject matter of the Open Meeting will be:

The Commission will consider whether to adopt joint rules with the Commodity Futures Trading Commission relating to the definitions of “Swap Dealer,” “Security-Based Swap Dealer,” “Major Swap Participant,” “Major Security-Based Swap Participant,” and “Eligible Contract Participant.”

At times, changes in Commission priorities require alterations in the scheduling of meeting items.

Commissioner Walter, as duty officer, determined that no earlier notice thereof was possible.

For further information and to ascertain what, if any, matters have been added, deleted or postponed, please contact: The Office of the Secretary at (202) 551-5400.

Dated: April 16, 2012.
Elizabeth M. Murphy,
Secretary.

[FR Doc. 2012-9525 Filed 4-17-12; 11:15 am]

BILLING CODE 8011-01-P